DEPARTMENT OF TRANSPORTATION

Federal Transit Administration

Notice of Intent To Prepare an Environmental Impact Statement for the Tacoma Dome Link Extension, King and Pierce Counties, Washington

AGENCY: Federal Transit Administration (FTA), Department of Transportation (DOT).

ACTION: Notice of intent to prepare an Environmental Impact Statement (EIS).

SUMMARY: FTA and the Central Puget Sound Regional Transit Authority (Sound Transit) intend to prepare an EIS to evaluate the benefits and impacts of the proposed Tacoma Dome Link Extension (TDLE), a light rail transit extension project. The project would improve public transit service between the Federal Way Transit Center in Federal Way, King County and the Tacoma Dome Station in Tacoma, Pierce County. It would respond to a growing number of transportation and community needs identified in the agency's regional transit system plan, Sound Transit 3 (ST3). The project would also cross the lands of the Puyallup Tribe of the Puyallup Reservation (Puyallup Tribe of Indians).

FTA and Sound Transit will prepare the EIS in accordance with the National Environmental Policy Act (NEPA), FTA environmental regulations, Fixing America's Surface Transportation Act (FAST Act), and Washington's State Environmental Policy Act (SEPA). This Notice initiates formal scoping for the EIS, provides information on the nature of the proposed transit project, invites participation in the EIS process, provides information about the purpose and need for the proposed transit project, includes general information on the range of alternatives being considered for evaluation in the EIS, and identifies potential environmental effects to be considered. It also invites comments from interested members of the public, tribes, and agencies on the scope of the EIS and announces upcoming public scoping meetings. Alternatives being considered for evaluation include a No-Build and various build alternatives to develop light rail in the TDLE corridor. The alternatives were developed through a local planning process including a Regional Transit Long-Range Plan, a regional system plan of transit investments (ST3), and a SEPA early scoping and alternatives development process specific to the TDLE corridor. The results of SEPA early scoping and alternatives planning, as well as other background information, are summarized in the Tacoma Dome Link Extension Scoping Information Report, which is available at Sound Transit's office located at 401 S Jackson Street, Seattle, WA 98104-2826, on the project website: www.soundtransit.org/tdlink, or by contacting the project line at (206) 903-7118.

DATES: The public scoping period will begin on the date of publication of this Notice and will continue through May 1, 2019 or 30 days from the date of publication, whichever is later. Please send written comments on the scope of the EIS, including the draft purpose and need statement, the alternatives to be considered in the EIS, the environmental and community impacts to be evaluated, and any other project-related issues, to the Sound Transit address listed in ADDRESSES below.

Public scoping meetings will be held at the times and locations indicated in ADDRESSES below. Sound Transit and FTA will accept written comments at those meetings, along with comments via mail and online, during the duration of the comment period. There is also an opportunity to give verbal comments that will be recorded by a court recorder at the meetings. FTA and Sound Transit have also scheduled a meeting to receive comments from agencies and tribes who have an interest in the proposed project on April 16, 2019. Invitations to the agency and tribal scoping meeting will be sent to appropriate federal, tribal, state, and local governmental units.

ADDRESSES: Written comments on the scope of the EIS must be postmarked by May 1, 2019 or 30 days from the publication of this Notice, whichever is later. Please send comments to: TDLE Project, c/o Elma Borbe, Senior Environmental Planner, Sound Transit, 401 S. Jackson Street, Seattle, WA 98104-2826, or by email to TDLEscoping@soundtransit.org. Comments will also be accepted at the public scoping meetings that will be held at:

1. April 16, 2019, 6:00 p.m.-8:00 p.m., Fife Community Center, 2111 54th Avenue E, Fife, WA.

2. April 17, 2019, 6:00 p.m.-8:00 p.m., Tacoma Convention Center, 1500 Commerce Street, Tacoma, WA.

3. April 23, 2019, 6:00 p.m.-8:00 p.m., Federal Way Performing Arts and Event Center, 31510 Pete von Reichbauer Way S, Federal Way, WA.

All public meeting locations are accessible to persons with disabilities. For information in alternative formats, call 1-800-201-4900/TTY Relay: 711 or email accessibility@soundtransit.org.

Information about the proposed project, the alternatives development process, scoping, and the EIS process will be available at the scoping meetings, at Sound Transit offices, on the project website at www.soundtransit.org/tdlink, or by contacting the project line at (206) 903-7118. An online open house is also available to submit comments at http://tdlink.participate.online.

FOR FURTHER INFORMATION CONTACT: Mark Assam, FTA Environmental Protection Specialist, (206) 220-4465 or Elma Borbe, Sound Transit Senior Environmental Planner, (206) 398-5445.

SUPPLEMENTARY INFORMATION:

Background. NEPA “scoping” (40 CFR 1501.7) has specific and fairly limited objectives, one of which is to identify the light rail alignment alternatives' significant issues that will be examined in detail in the EIS, while simultaneously limiting consideration and development of issues that are not truly significant. The NEPA scoping process should identify potentially significant environmental impacts caused by the project and that give rise to the need to prepare an EIS; impacts that are deemed not to be significant need not be developed extensively in the context of the impact statement. The EIS must be focused on impacts of consequence consistent with the ultimate objectives of the NEPA implementing regulations—“to make the environmental impact statement process more useful to decision makers and the public; and to reduce paperwork and the accumulation of extraneous background data, in order to emphasize the need to focus on real environmental issues and alternatives . . . [by requiring] impact statements to be concise, clear, and to the point, and supported by evidence that agencies have made the necessary environmental analyses.” Executive Order 11991, of May 24, 1977. Transit projects may also generate environmental benefits, which should also be highlighted; the EIS process should draw attention to positive impacts, not just negative.

The Proposed Project. Sound Transit is proposing to expand Link light rail transit service from the Federal Way Transit Center to the Tacoma Dome Station area. The project corridor is approximately 10 miles long, with four proposed stations and two park-and-rides. The representative project is part of the ST3 Plan of regional transit system investments, funding for which was approved by voters in the region in 2016. The ST3 Plan is available on Sound Transit's website at: www.soundtransit3.org/document-library.

Purpose of and Need for the Project. The Purpose and Need statement establishes the basis for developing and evaluating a range of reasonable alternatives for environmental review and assists with the identification of a Preferred Alternative. The purpose of the TDLE project is to expand the Link light rail system from the Federal Way Transit Center to the Tacoma Dome Station area, to make appropriate community investments to improve mobility, and to increase capacity and connectivity for regional connections in order to:

• Provide high-quality rapid, reliable, and efficient light rail transit service to communities in the project corridor, as defined through the local planning process and reflected in the ST3 Plan (Sound Transit 2016).

• Improve regional mobility by increasing connectivity and capacity in the TDLE corridor from the Federal Way Transit Center to the Tacoma Dome Station area to meet projected transit demand.

• Connect communities of Federal Way, Milton, Fife, Tacoma, and the Puyallup Tribe of Indians to regional centers and destinations on the regional high-capacity transit (HCT) system as described in adopted regional and local land use, transportation, and economic development plans and Sound Transit's Regional Transit Long-Range Plan (Sound Transit 2014).

• Implement a system that is technically and financially feasible to build, operate, and maintain.

• Expand mobility for the corridor and region's residents, which include transit-dependent, low-income, and minority populations.

• Encourage equitable and sustainable urban growth in station areas through support of transit oriented development and multimodal integration in a manner that is consistent with local land use plans and policies, including Sound Transit's Transit Oriented Development and Sustainability policies.

• Encourage convenient and safe nonmotorized access to stations such as bicycle and pedestrian connections consistent with Sound Transit's System Access Policy.

• Preserve and promote a healthy environment and economy by minimizing adverse impacts on the natural, built, and social environments.

The project is needed because:

• Chronic roadway congestion on Interstate 5 (I-5) and State Route 99 (SR 99) — two primary highways connecting communities along the corridor — delays today's travelers, including those using transit, and degrades the reliability of bus service traversing the corridor, particularly during commute periods.

• These chronic, degraded conditions are expected to continue and worsen as the region's population and employment grows.

• Puget Sound Regional Council (PSRC), the regional metropolitan planning organization, and local plans call for HCT in the corridor consistent with VISION 2040 (PSRC 2009) and Sound Transit's Regional Transit Long-Range Plan (Sound Transit 2014).

• South King and Pierce counties citizens and communities, including transit-dependent residents and low-income or minority populations, need long-term regional mobility and multimodal connectivity as called for in the Washington State Growth Management Act.

• Regional and local plans call for increased residential and/or employment density at and around HCT stations, and increased options for multimodal access.

• Environmental and sustainability goals of the state and region, as established in Washington state law and embodied in PSRC's VISION 2040 and 2018 Regional Transportation Plan, include reducing greenhouse gas emissions by decreasing vehicle miles traveled.

Proposed Alternatives. A range of light rail transit build alternatives has been identified for the TDLE project, as well as a No-Build Alternative, as required under NEPA, that serves as a baseline against which to assess the impacts of the proposed alternatives. The mode and corridor served for the proposed project were identified through the years-long planning process for the Sound Transit Regional Transit Long-Range Plan and ST3 Plan. The range of light rail transit alternatives was developed through an alternatives development process, which built off of the Regional Transit Long-Range Plan and ST3 planning work. The planning and alternatives development processes included technical analysis, public engagement, and input from affected local jurisdictions. Sound Transit developed an initial range of alternatives from agency and public input during the SEPA early scoping process (April 2 through May 3, 2018). The project Elected Leadership Group (ELG), a comprehensive group of elected officials that represent the service corridor, recommended how to narrow and refine these alternatives based on additional analysis and community, agency, and tribal input. Consistent with 23 CFR part 450.318, FTA is relying on the results of these local planning processes to inform the mode, corridor, and range of reasonable alternatives to be evaluated during the environmental process.

FTA and Sound Transit invite comments on these alternatives. The input received during the scoping period will help FTA and Sound Transit identify alternatives to evaluate in the Draft EIS. After scoping concludes, the Sound Transit Board is expected to consider the scoping comments received and then act on a motion addressing the purpose and need for the project, the scope of environmental review, and identifying the preferred alternative and other alternatives to be considered in the Draft EIS.

No-Build Alternative. The No-Build Alternative reflects the existing transportation system plus the transportation improvements included in PSRC's Transportation Improvement Program.

Light Rail Transit Alternatives. The full-length project connecting from Federal Way to the Tacoma Dome Station is approximately 10 miles long and includes four stations: South Federal Way, Fife, East Tacoma, and the Tacoma Dome. FTA and Sound Transit may also examine several design options and potential minimal operable segments for the proposed alternatives. Information about the proposed project, the alternatives development process, scoping, and the EIS process will be available at the scoping meetings, at Sound Transit offices, on the project website: http://www.soundtransit.org/tdlink, or by contacting the project line at (206) 903-7118. For purposes of this Notice, the project can be generally described as follows:

Based on planning efforts to date, the alternatives evaluated for the project follow the I-5 corridor, the SR 99 corridor, or a combination of the two corridors, and include four stations and two park-and-rides located at the South Federal Way and Fife stations. The project begins just south of the Federal Way Transit Center and includes three general alternative routes in South Federal Way: I-5, Enchanted Parkway, and SR 99. The I-5 alternatives run parallel to the west side of I-5 with station options in the vicinity of S 356th Street. The Enchanted Parkway alternatives curve from I-5 to Enchanted Parkway between S 344th Street and S 359th Street with station options in the vicinity of S 352nd Street. The SR 99 alternatives use either SR 99 or a short stretch of I-5 to reach an SR 99 station near S 348th Street before continuing south along SR 99, or returning to the west side of I-5. Just south of Porter Way, I-5 and SR 99 make a 90-degree curve to the west near the city limits for Milton and Fife. Due to the topography and a new interchange with SR 167 that the Washington State Department of Transportation plans to start constructing in 2019, all alternatives converge along the SR 99 corridor as they enter Fife. The station and park-and-ride site options in Fife are generally located north of SR 99 between 59th Street E and 54th Street E. West of 54th Street E, the alternatives follow either the south side of the SR 99 corridor or the north side of the I-5 corridor. All of the alternatives are anticipated to cross the Puyallup River on a new bridge to the north of I-5. From East Tacoma to the Tacoma Dome Station area, the alternatives would curve slightly north to follow either E 26th Street, E 25th Street, or Puyallup Avenue. There is also an option for an alignment to follow E 26th Street or E 27th Street to a station site at the Tacoma Dome near East D Street. The East Tacoma station location is anticipated to be a block east or west of Portland Avenue E. The Tacoma Dome light rail station would be located in the vicinity of East G Street or East D Street.

The build alternatives would also include access enhancements such as transit-related roadway, bicycle, and pedestrian improvements around station areas, and the Puyallup River Bridge crossing. These improvements may be eligible for federal funding and could be part of the transit project or constructed as part of a joint effort with agency partners.

Possible Adverse Effects. Consistent with NEPA, FTA and Sound Transit will evaluate, with input from the public, tribes, and agencies, the potential impacts of the alternatives on the natural, built, and social environments. Likely areas of investigation include transportation (including navigable waterways), land use and consistency with applicable plans, land acquisition and displacements, socioeconomic impacts, park and recreation resources, historic and cultural resources, environmental justice, visual and aesthetic qualities, air quality, noise and vibration, hazardous materials, energy use, safety and security, water resources, floodplains, and ecosystems, including threatened and endangered species, and potential marine mammals. The EIS will evaluate the impacts of short-term construction, long-term operations, and indirect and cumulative conditions. The EIS will also propose measures to avoid, minimize, or mitigate significant adverse impacts.

In accordance with FTA policy and regulations, FTA and Sound Transit will comply with all federal environmental laws, regulations, and executive orders applicable to the proposed project during the environmental review process.

Roles of Agencies and the Public. NEPA, and FTA's regulations for implementing NEPA, call for public involvement in the EIS process. FTA and Sound Transit therefore invite federal and non-federal agencies to participate in the NEPA process as “cooperating” or “participating” agencies. FTA will also initiate government-to-government consultation with tribes and will invite them to participate in the process.

Any agency or tribe interested in the project that does not receive such an invitation should promptly notify the Sound Transit Senior Environmental Planner identified above under ADDRESSES.

FTA and Sound Transit will prepare a draft Coordination Plan guiding agency, tribe, and public involvement. Interested parties will be able to review this draft Coordination Plan at the project website: http://www.soundtransit.org/tdlink. The Plan will identify the project's coordination approach and structure, detail the major milestones for agency and public involvement, and include an initial list of interested agencies and organizations.

Combined FEIS and Record of Decision. Under 23 U.S.C. 139, FTA is to combine the Final EIS and Record of Decision if practicable. However, because the EIS will be a joint document meeting both NEPA and SEPA requirements, and because SEPA requires a waiting period between the FEIS and decisions about the project, FTA and Sound Transit have determined that a combined FEIS and Record of Decision is not practicable.

Paperwork Reduction. The Paperwork Reduction Act seeks, in part, to minimize the cost to the taxpayer of the creation, collection, maintenance, use, dissemination, and disposition of information. Consistent with this goal and with principles of economy and efficiency in government, FTA limits as much as possible the distribution of complete sets of printed environmental documents. Accordingly, unless a specific request for a complete printed set of environmental documents is received before the document is printed, FTA and Sound Transit will distribute the executive summary of the environmental document that will include a compact disc of the complete environmental document and a link to the project website where it can be accessed online. A complete printed set of the environmental documentation will be available for review at Sound Transit's offices and local libraries; an electronic copy of the complete environmental document will also be available on Sound Transit's project website.

Linda M. Gehrke,
Regional Administrator.

[FR Doc. 2019-05721 Filed 3-25-19; 8:45 am]

BILLING CODE P